DEPARTMENT OF COMMERCE

International Trade Administration

[A-570-863]

Notice of Preliminary Results of Antidumping Duty New Shipper Review: Honey From the People's Republic of China

AGENCY: Import Administration, International Trade Administration, Department of Commerce.

ACTION: Notice of preliminary results of antidumping duty new shipper review.

SUMMARY: In response to a request from Shanghai Xiuwei International Trading Co., Ltd. (“Shanghai Xiuwei”) and Sichuan-Dujiangyan Dubao Bee Industrial Co., Ltd. (“Sichuan Dubao”), the Department of Commerce (“the Department”) is conducting a new shipper review of the antidumping duty order on honey from the People's Republic of China. The period of review covers the period February 10, 2001 through November 30, 2002. The preliminarily results are listed below in the section titled “Preliminary Results of Review.” Interested parties are invited to comment on these preliminary results.

EFFECTIVE DATE: December 4, 2003.

FOR FURTHER INFORMATION CONTACT: Brandon Farlander at (202) 482-0182 or Dena Aliadinov at (202) 482-3362; Antidumping and Countervailing Duty Enforcement Group III, Office Eight, Import Administration, International Trade Administration, U.S. Department of Commerce, 14th Street and Constitution Avenue NW, Washington, DC 20230.

SUPPLEMENTARY INFORMATION:

Background

The Department published in the Federal Register an antidumping duty order on honey from the People's Republic of China (“PRC”) on December 10, 2001. See Notice of Amended Final Determination of Sales at Less Than Fair Value and Antidumping Duty Order; Honey from the People's Republic of China, 66 FR 63670 (December 10, 2001). On December 31, 2002, the Department received properly filed requests from Shanghai Xiuwei and Sichuan Dubao for new shipper reviews under the antidumping duty order on honey from the PRC, in accordance with section 751(a)(2)(B) of the Act and § 351.214(c) of the Department's regulations. Shanghai Xiuwei identified itself as an exporter of processed honey produced by its supplier, Henan Oriental Bee Products Co., Ltd. (“Henan Oriental”). Sichuan Dubao identified itself as the producer of the processed honey that it exports.

Under the new shipper provisions, an exporter or an exporter that is also a producer of the subject merchandise, in requesting a new shipper review, must certify to the following: (i) It did not export the merchandise to the United States during the period of investigation (POI); and (ii) it is not affiliated with any exporter or producer who exported the subject merchandise during that period. In addition, if the exporter is not the producer, then the person that produced or supplied the subject merchandise must also submit these same certifications. Moreover, in an antidumping proceeding involving imports from a non-market economy country, the new shipper must also certify that its (and its producers’) export activities are not controlled by the central government. If these provisions are met, the Department will conduct a new shipper review to establish an individual weighted-average dumping margin for such new shipper, if the Department has not previously established such a margin for the exporter or producer. (See generally § 351.214(b)(2) of the Department's regulations.)

The regulations further require that the person making the request include in its request documentation establishing: (i) The date on which the merchandise was first entered, or withdrawn from warehouse, for consumption, or, if it cannot establish the date of first entry, the date on which it first shipped the merchandise for export to the United States; (ii) the volume of that and subsequent shipments; and (iii) the date of the first sale to an unaffiliated customer in the United States. See § 351.214(b)(2)(iv).

Shanghai Xiuwei's and Sichuan Dubao's requests were accompanied by information and certifications establishing that neither they nor their suppliers exported the subject merchandise to the United States during the POI, and that they were not affiliated with any company which exported subject merchandise to the United States during the POI. Shanghai Xiuwei and Sichuan Dubao provided information and certifications that demonstrated the date on which they first shipped and entered honey for consumption in the United States, the volume of that shipment, and the date of the first sale to the unaffiliated customer in the United States. Additionally, Shanghai Xiuwei and Sichuan Dubao certified that neither their nor their suppliers' export activities are controlled by the central government.

Because the Department determined that Shanghai Xiuwei's and Sichuan Dubao's requests met the requirements of § 351.214 of its regulations, on February 5, 2003, the Department published its initiation of this new shipper review for the period February 10, 2001 through November 30, 2002. See Honey from the People's Republic of China: Initiation of New Shipper Antidumping Duty Reviews (68 FR 5868, February 5, 2003). Accordingly, the Department is now conducting this new shipper review in accordance with section 751(a)(2)(B) of the Act and § 351.214 of its regulations.

On February 20, 2003, we issued the Department's antidumping duty questionnaire to Shanghai Xiuwei and Sichuan Dubao. Shanghai Xiuwei and Sichuan Dubao submitted their Section A questionnaire responses on March 20, 2003 and March 28, 2003, respectively. On April 3, 2003, Shanghai Xiuwei submitted its Section C and D questionnaire responses. Also on April 3, 2003, petitioners submitted comments on Shanghai Xiuwei's Section A response. On April 4, 2003, Sichuan Dubao submitted its Section C and D questionnaire responses. On April 15, 2003 petitioners submitted comments on Sichuan Dubao's Section A, C, and D questionnaire responses. On April 18, 2003, petitioners submitted comments on Shanghai Xiuwei's Section C and D questionnaire responses.

On May 1, 2003, petitioners requested that the Department align the period of review for this new shipper review with the antidumping duty review. On May 2, 2003 (for Shanghai Xiuwei) and May 13, 2003 (for Sichuan Dubao), we issued the first supplemental questionnaire covering Shanghai Xiuwei's and Sichuan Dubao's Section A, C, and D questionnaire responses. We received Shanghai Xiuwei's first supplemental questionnaire response on May 15, 2003, and received Sichuan Dubao's first supplemental questionnaire response on June 3, 2003. On May 30, petitioners submitted comments on Shanghai Xiuwei's first supplemental questionnaire response. On June 13, petitioners submitted comments on Sichuan Dubao's first supplemental questionnaire response. We issued the second supplemental questionnaires to Shanghai Xiuwei and Sichuan Dubao, covering their first supplemental responses, on June 27, 2003 and June 26, 2003, respectively. We received Shanghai Xiuwei's second supplemental questionnaire response on July 12, 2003, and received Sichuan Dubao's second supplemental questionnaire response on July 10, 2003.

On June 10, 2003, the Department provided the parties with an opportunity to submit publicly available information regarding surrogate country selection and factors of production surrogate values for consideration in the preliminary results of this review. On June 24, 2003, petitioners submitted comments on the surrogate country selection. On July 7, 2003, petitioners submitted information on factors of production surrogate values for consideration. On July 11, 2003, petitioners submitted a declaration executed by a market researcher that gathered information regarding the Indian honey industry. We did not receive any comments or information from Shanghai Xiuwei or Sichuan Dubao.

On June 13, 2003, the Department issued supplemental questionnaires to Shanghai Xiuwei and Sichuan Dubao to forward to their importers (“importer questionnaire”). We received responses to the importer questionnaires from Shanghai Xiuwei's importer and one of Sichuan Dubao's importers on June 30, 2003. Petitioners submitted comments on the importer questionnaire responses on July 10, 2003 (for Sichuan Dubao) and July 30, 2003 (for Shanghai Xiuwei).

On July 21, 2003, the Department extended the preliminary results of this new shipper review 300 days until November 26, 2003. See Honey from the People's Republic of China: Extension of Time Limits for Preliminary Results of New Shipper Antidumping Duty Review, 68 FR 43086 (July 21, 2003). Petitioners submitted comments for consideration in the Department's verification of Shanghai Xiuwei's and Sichuan Dubao's questionnaire responses on July 22, 2003 and July 28, 2003, respectively.

Scope of the Antidumping Duty Order

The products covered by this review are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise subject to this review is currently classifiable under subheadings 0409.00.00, 1702.90.90, and 2106.90.99 of the Harmonized Tariff Schedule of the United States (“HTSUS”). Although the HTSUS subheadings are provided for convenience and U.S. Customs Service (renamed the U.S. Customs and Border Protection) (“CBP”) purposes, the Department's written description of the merchandise under order is dispositive.

Verification

As provided in section 782(i)(3) of the Act and § 351.307 of the Department's regulations, we conducted verification of the questionnaire responses of Shanghai Xiuwei (August 4 through 7, 2003) and Sichuan Dubao (August 4 through 6, 2003 and August 8, 2003). We used standard verification procedures, including on-site inspection of the production facilities of Henan Oriental (Shanghai Xiuwei's supplier of processed honey) and Sichuan Dubao, the sales office of Shanghai Xiuwei in Shanghai and the sales office of Sichuan Dubao in Dujiangyan, and the examination of relevant sales and financial records. Our verification results are outlined in the New Shipper Review of Honey from the People's Republic of China (PRC) (A-570-863): Verification of U.S. Sale for respondent Shanghai Xiuwei International Trading Co., Ltd. (Shanghai Xiuwei) and Factors of Production Information Submitted by Henan Oriental Bee Products Co., Ltd. (Henan Oriental), dated September 30, 2003 (“Shanghai Xiuwei Verification Report”); and the New Shipper Review of Honey from the People's Republic of China (PRC) (A-570-863): Verification of U.S. Sales and Factors of Production Information Submitted by Sichuan-Dujiangyan Dubao Bee Industrial Co., Ltd. (Sichuan Dubao), dated September 23, 2003 (“Sichuan Dubao Verification Report”). Public versions of these reports are on file in the Central Records Unit (“CRU”) located in room B-099 of the Main Commerce Building.

New Shipper Status

Based on questionnaire responses submitted by Shanghai Xiuwei and Sichuan Dubao, and our verification thereof, we preliminarily determine that Shanghai Xiuwei and Sichuan Dubao have met the requirements to qualify as new shippers during the POR. We have determined that Shanghai Xiuwei and Sichuan Dubao made their first sale and/or shipment of subject merchandise to the United States during the POR, and that neither was affiliated with any exporter or producer that previously shipped to the United States. We also determined that Henan Oriental did not export subject merchandise during the POI, nor was it affiliated with any other exporter or producer that did so.

In submissions dated April 3, 2003 (for Shanghai Xiuwei) and July 10, 2003 (for Sichuan Dubao), petitioners allege that Shanghai Xiuwei's and Sichuan Dubao's sales to the United States during the POR do not reflect bona fide commercial transactions. For Shanghai Xiuwei, petitioners raise issues regarding Shanghai Xiuwei's customer and the shipment destination, and allege that the sales price was too high. For Sichuan Dubao, petitioners raise issues regarding Sichuan Dubao's customers, the sales prices, and whether the sales transactions between Sichuan Dubao and the importers were arm's-length transactions. As an initial matter, the Department examined the average unit values (“AUVs”) and quantities of imports into the United States of comparable merchandise from the PRC during the POR. We note that in comparison to shipments from other PRC honey exporters/producers, the quantities of Shanghai Xiuwei's and Sichuan Dubao's shipments are among the highest and the prices are about average.

For Shanghai Xiuwei, the Department was unable to complete its analysis of all factors relevant to the bona fides of Shanghai Xiuwei's new shipper sale. The Department is concerned about the fact that Shanghai Xiuwei and its U.S. customer, who acted as importer of record, were created in a short period of time and that the sales was consummated close to the dates both entities were formed. The Department is requesting comments on this timing issue and will carefully examine these facts for the final results.

For Sichuan Dubao, the Department was unable to complete its analysis of all factors relevant to the bona fides of its second sale. The Department is experiencing difficulties contacting the importer of record, who has not responded to the Department's importer questionnaire. For a full review of our research and the efforts the Department has made to locate this importer, see the Memorandum from Brandon Farlander and Dena Aliadinov to the File, dated November 26, 2003. The Department is requesting comments on this issue and we will carefully examine this second sale for the final results.

In summary, for purposes of these preliminary results of review, we are treating Shanghai Xiuwei's and Sichuan Dubao's sales of honey to the United States as bona fide transactions. However, as noted above, the Department intends to continue to carefully examine this issue for the final results of this review.

Separate Rates

In proceedings involving NME countries, the Department begins with a presumption that all companies within the country are subject to government control and, thus, should be assigned a single antidumping duty rate unless an exporter can affirmatively demonstrate an absence of government control, both in law (de jure) and in fact (de facto), with respect to its export activities. In this review, Shanghai Xiuwei and Sichuan Dubao both requested a separate company-specific rate.

To establish whether a company is sufficiently independent in its export activities from government control to be entitled to a separate, company-specific rate, the Department analyzes the exporting entity in an NME country under the test established in the Final Determination of Sales at Less Than Fair Value: Sparklers from the People's Republic of China, 56 FR 20588, 20589 (May 6, 1991) (Sparklers), and amplified by the Final Determination of Sales at Less Than Fair Value: Silicon Carbide from the People's Republic of China, 59 FR 22585, 22586-22587 (May 2, 1994) (Silicon Carbide).

Shanghai Xiuwei and Sichuan Dubao provided separate-rate information in their responses to our original and supplemental questionnaires. Accordingly, we performed a separate-rates analysis to determine whether this exporter and producer/exporter are independent from government control (see Notice of Final Determination of Sales at Less Than Fair Value: Bicycles From the People's Republic of China, 61 FR 56570 (April 30, 1996)).

De Jure Control

The Department considers the following de jure criteria in determining whether an individual company may be granted a separate rate: (1) An absence of restrictive stipulations associated with an individual exporter's business and export licenses; (2) any legislative enactments decentralizing control of companies; and (3) any other formal measures by the government decentralizing control of companies. See Sparklers, 56 FR 20588, 20589.

Shanghai Xiuwei and Sichuan Dubao have placed on the record a number of documents to demonstrate absence of de jure control, including the “Foreign Trade Law of the People's Republic of China” (May 12, 1994) and the “Administrative Regulations of the People's Republic of China Governing the Registration of Legal Corporations' (June 3, 1998). The Department has analyzed such PRC laws and found that they establish an absence of de jure control. See, e.g., Preliminary Results of New Shipper Review: Certain Preserved Mushrooms From the People's Republic of China, 66 FR 30695, 30696 (June 7, 2001). At verification, we found that Shanghai Xiuwei's and Sichuan Dubao's business licenses and “Certificate of Approval—For Enterprises with Foreign Trade Rights in the People's Republic of China” were granted in accordance with these laws. Moreover, the results of verification support the information provided regarding these PRC laws. See Shanghai Xiuwei Verification Report at 9-10 and Sichuan Dubao Verification Report at 10-11. Therefore, we preliminarily determine that there is an absence of de jure control over Shanghai Xiuwei's and Sichuan Dubao's export activities.

De Facto Control

Typically, the Department considers four factors in evaluating whether a respondent is subject to de facto governmental control of its export functions: (1) Whether the export prices are set by, or subject to, the approval of a governmental authority; (2) whether the respondent has authority to negotiate and sign contracts, and other agreements; (3) whether the respondent has autonomy from the government in making decisions regarding the selection of its management; and (4) whether the respondent retains the proceeds of its export sales and makes independent decisions regarding disposition of profits or financing of losses. See Silicon Carbide at 22587.

As stated in previous cases, there is some evidence that certain enactments of the PRC central government have not been implemented uniformly among different sectors and/or jurisdictions in the PRC. See Silicon Carbide at 22586-22587. Therefore, the Department has determined that an analysis of de facto control is critical in determining whether respondents are, in fact, subject to a degree of governmental control which would preclude the Department from assigning separate rates.

Shanghai Xiuwei and Sichuan Dubao have both asserted the following: (1) They are privately-owned companies; (2) there is no government participation in their setting of export prices; (3) their chief executive officers and authorized employees have the authority to bind sales contracts; (4) they do not have to notify any government authorities of their management selection; (5) there are no restrictions on the use of their export revenue; and (6) they are responsible for financing their own losses. Shanghai Xiuwei's and Sichuan Dubao's questionnaire responses do not suggest that pricing is coordinated among exporters. Furthermore, our analysis of the responses during verification reveal no other information indicating the existence of government control. See Shanghai Xiuwei Verification Report at 10-11 and Sichuan Dubao Verification Report at 11-13. Consequently, because evidence on the record indicates an absence of government control, both in law and in fact, over Shanghai Xiuwei's and Sichuan Dubao's export activities, we preliminarily determine that Shanghai Xiuwei and Sichuan Dubao have both met the criteria for the application of a separate rate.

Normal Value Comparisons

To determine whether the respondent's sale of the subject merchandise to the United States was made at a price below normal value, we compared their United States price to normal value, as described in the “United States Price” and “Normal Value” sections of this notice.

United States Price

For both Shanghai Xiuwei and Sichuan Dubao, we based the United States price on export price (“EP”) in accordance with section 772(a) of the Act, because the first sale to an unaffiliated purchaser was made prior to importation, and constructed export price (“CEP”) was not otherwise warranted by the facts on the record. We calculated EP based on the packed price from the exporter to the first unaffiliated customer in the United States. For Sichuan Dubao, we deducted foreign inland freight from the starting price (gross unit price), in accordance with section 772(c) of the Act. For Shanghai Xiuwei, we deducted foreign inland freight and brokerage and handling expenses incurred in the PRC from the starting price.

Normal Value

Section 773(c)(1) of the Act provides that the Department shall determine normal value (“NV”) using a factors-of-production methodology if (1) the merchandise is exported from an NME country, and (2) available information does not permit the calculation of NV using home-market prices, third-country prices, or constructed value under section 773(a) of the Act.

In every case conducted by the Department involving the PRC, the PRC has been treated as an NME country. Pursuant to section 771(18)(C)(i) of the Act, any determination that a foreign country is an NME country shall remain in effect until revoked by the administering authority. Shanghai Xiuwei and Sichuan Dubao did not contest such treatment in this review. Accordingly, we have applied surrogate values to the factors of production to determine NV. See the Factor Valuation Memorandum for the Preliminary Results of the Antidumping Duty New Shipper Review of Honey from the People's Republic of China, dated November 26, 2003 (“Factor Valuation Memo”). A public version of this memorandum is on file in the CRU located in room B-099 of the Main Commerce Building.

We calculated NV based on factors of production in accordance with section 773(c)(4) of the Act and § 351.408(c) of our regulations. Consistent with the original investigation of this order, we determine that India (1) is comparable to the PRC in level of economic development, and (2) is a significant producer of comparable merchandise. Accordingly, we valued the factors of production using publicly available information from India.

In selecting the surrogate values, we considered the quality, specificity, and contemporaneity of the data, in accordance with our practice. Where appropriate, we adjusted Indian import prices by adding foreign inland freight expenses to make them delivered prices. When we used Indian import values to value inputs sourced domestically by PRC suppliers, we added to Indian surrogate values a surrogate freight cost calculated using the shorter of the reported distance from the domestic supplier to the factory or the distance from the nearest port of export to the factory. This adjustment is in accordance with the Court of Appeals for the Federal Circuit's decision in Sigma Corp. v. United States, 117 F. 3d 1401 (Fed. Cir. 1997). When we used non-import surrogate values for factors sourced domestically by PRC suppliers, we based freight for inputs on the actual distance from the input supplier to the site at which the input was used. When we relied on Indian import values to value inputs, in accordance with the Department's practice, we excluded imports from both NMEs and countries deemed to have generally available export subsidies (i.e., Indonesia, Korea, and Thailand) from our surrogate value calculations. For those surrogate values not contemporaneous with the POR, we adjusted for inflation using the wholesale price indices for India, as published in the International Monetary Fund's publication, International Financial Statistics.

We valued the factors of production as follows:

To value raw honey, we continue to use the average of the highest and lowest price for one kilogram (“kg.”) of raw honey stated in an article published in The Tribune of India on March 1, 2000, entitled, “Apiculture, a major foreign exchange earner.” (later republished in The Agricultural Tribune on May 1, 2000). Consistent with the methodology established in the previous proceedings, to account for raw honey price increases in India, we have inflated the average raw honey price from the March 2000, Tribune of India article (i.e., Rs. 35 per kg.) to December 2001 by dividing the Indian WPI for December 2001 by the Indian WPI for March 2000. To account for increases in Indian raw honey prices from December 2001 through May 2002 in excess of inflation, we averaged raw honey purchase prices from the Tiwana and Jallowal Bee Farms submitted by petitioners in Exhibit 1 of its July 7, 2003 response to calculate a total average raw honey price for each month from December 2001 through May 2002. Next, we calculated monthly price increases on a percentage-basis, and then applied these price increases (percentage) to our adjusted raw honey price from the March 2000, Tribune of India article. Then, we calculated a simple average of these adjusted monthly raw honey prices to derive our raw honey surrogate value for the period we had raw honey purchase pricing data (i.e., December 1, 2001-May 31, 2002). In order to make this value fully-contemporaneous to the POR, we further adjusted the raw honey surrogate value for inflation during the period of June 2002 through November 2002 by the Indian WPI for May 2002. Finally, we converted the raw honey value from a per kg.-basis to a per metric ton-(“MT”) basis. See Attachments 2, 3, and 15 of the Factor Valuation Memo for further details. See also Notice of Final Results of Antidumping Duty New Shipper Review: Honey from the People's Republic of China, 68 FR 62053 (October 31, 2003 ) (“Wuhan NSR Final Results”) and Notice of Final Determination of Sales at Less Than Fair Value; Honey From the People's Republic of China, 66 FR 50608 (October 4, 2001). However, the Department intends to examine this issue further for the final results of this review. The Department therefore invites interested parties to submit comments on this issue for purposes of the final results.

To value beeswax, a raw honey by-product, we used the average per kilogram import value of beeswax into India for the POR.

To value coal, we relied upon contemporaneous Indian import values of “steam coal” under the Indian Customs' heading of “27011902” obtained from the World Trade Atlas, which notes that its data was obtained from the Ministry of Commerce of India. We also adjusted the surrogate value for coal to include freight costs incurred between the supplier and the factory. To value electricity, we used the 2000 total average price per kilowatt hour (“KWH”), adjusted for inflation, for “Electricity for Industry” as reported in the International Energy Agency's publication, Energy Prices and Taxes, Second Quarter, 2002. To value water, we used the water tariff rate, as reported on the Municipal Corporation of Greater Mumbai's Web site. See http://www.mcgm.gov.in/Stat%20&%20Fig/Revnue.htm and Attachment X of the Factor Valuation Memo for source documents.

To value packing materials (i.e., paint and steel drums), we relied upon contemporaneous Indian import data under the Indian Customs' heading “3209,” and a price quote from an Indian steel drum manufacturer, respectively. We adjusted the surrogate value for steel drums to reflect inflation. We also adjusted the surrogate values of packing materials to include freight costs incurred between the supplier and the factory.

To value factory overhead, selling, general, and administrative expenses (“SG&A”), and profit, we relied upon publicly-available information in the 2001-2002 annual report of the Mahabaleshwar Honey Producers Cooperative Society, Ltd. (“MHPC”), a producer of the subject merchandise in India. We applied these rates to the calculated cost of manufacture and cost of production using the same methodology established in Wuhan NSR Final Results.

For labor, we used the PRC regression-based wage rate at Import Administration's home page, Import Library, Expected Wages of Selected NME Countries, revised in September 2002, and corrected in February 2003. Because of the variability of wage rates in countries with similar per capita gross domestic products, § 351.408(c)(3) of the Department's regulations requires the use of a regression-based wage rate. The source of these wage rate data on the Import Administration's web site is the Year Book of Labour Statistics 2001, International Labour Office (Geneva: 2001), Chapter 5B: Wages in Manufacturing.

To value truck freight, we used an average truck freight cost based on Indian market truck freight rates on a per metric ton basis published in the Iron and Steel Newsletter, April 2002.

For details on factor of production valuation calculations, see the Factor Valuation Memo, dated November 26, 2003.

Currency Conversion

We made currency conversions pursuant to § 351.415 of the Department's regulations at the rates certified by the Federal Reserve Bank.

Preliminary Results of Review

We preliminarily determine that the following antidumping duty margins exist:

Manufacturer and exporter | POR | Margin (percent)
Shanghai Xiuwei International Trading Co., Ltd | 02/10/01-11/30/02 | 0
Sichuan-Dujiangyan Dubao Bee Industrial Co., Ltd | 02/10/01-11/30/02 | 8.47

For details on the calculation of the antidumping duty margins, see the Analysis of Data Submitted by Shanghai Xiuwei International Trading Co., Ltd. (“Shanghai Xiuwei”) in the Preliminary Results of New Shipper Review of the Antidumping Duty Order on Honey from the People's Republic of China (“Shanghai Xiuwei Analysis Memo”), dated November 26, 2003; and the Analysis of Data Submitted by Sichuan-Dujiangyan Dubao Bee Industrial Co., Ltd. (“Sichuan Dubao”) in the Preliminary Results of New Shipper Review of the Antidumping Duty Order on Honey from the People's Republic of China (“Sichuan Dubao Analysis Memo”), dated November 26, 2003. Public versions of these memoranda are on file in the CRU.

Assessment Rates

Pursuant to § 351.212(b), the Department calculates an assessment rate for each importer of the subject merchandise. Upon issuance of the final results of this new shipper review, if any importer-specific assessment rates calculated in the final results are above de minimis (i.e., at or above 0.5 percent), the Department will issue appraisement instructions directly to CBP to assess antidumping duties on appropriate entries by applying the assessment rate to the entered value of the merchandise. For assessment purposes, we calculated importer-specific assessment rates for the subject merchandise by aggregating the dumping duties due for all U.S. sales to each importer and dividing the amount by the total entered value of the sales to that importer. If these preliminary results are adopted in our final results of review, we will direct CBP to assess the resulting rate against the entered customs value for the subject merchandise on each of Shanghai Xiuwei's and Sichuan Dubao's importer's/customer's entries during the POR.

Cash-Deposit Requirements

Shanghai Xiuwei and Sichuan Dubao may continue to post a bond or other security in lieu of cash deposits for certain entries of subject merchandise exported by Shanghai Xiuwei or Sichuan Dubao. As Sichuan Dubao has certified that it both produced and exported the subject merchandise, Sichuan Dubao's bonding option is limited only to such merchandise for which it is both the producer and exporter. For Shanghai Xiuwei, which has identified Henan Oriental as the producer of subject merchandise for the sale under review, Shanghai Xiuwei's bonding option is limited only to entries of subject merchandise from Shanghai Xiuwei that were produced by Henan Oriental. Bonding will no longer be permitted to fulfill security requirements for Shanghai Xiuwei's and Sichuan Dubao's shipments after publication of the final results of this new shipper review. The following cash-deposit rates will be effective upon publication of the final results of this new shipper review for all shipments of honey from the PRC entered, or withdrawn from warehouse, for consumption on or after publication date, as provided for by section 751(a)(2)(C) of the Act: (1) For subject merchandise produced and exported by Sichuan Dubao, or produced by Henan Oriental and exported by Shanghai Xiuwei, the cash-deposit rate will be that established in the final results of this review; (2) for all other subject merchandise exported by Shanghai Xiuwei or Sichuan Dubao, the cash-deposit rate will be the PRC country-wide rate, which is 183.80 percent; (3) for all other PRC exporters which have not been found to be entitled to a separate rate, the cash-deposit rate will be the PRC country-wide rate; and (4) for all non-PRC exporters of subject merchandise, the cash-deposit rate will be the rate applicable to the PRC exporter that supplied that exporter. These deposit requirements, when imposed, shall remain in effect until publication of the final results of the next administrative review.

Schedule for Final Results of Review

The Department will disclose calculations performed in connection with the preliminary results of this review within five days of the date of publication of this notice in accordance with § 351.224(b). Any interested party may request a hearing within 30 days of publication of this notice in accordance with § 351.310(c) of the Department's regulations. Any hearing would normally be held 37 days after the publication of this notice, or the first workday thereafter, at the U.S. Department of Commerce, 14th Street and Constitution Avenue, NW., Washington, DC 20230. Individuals who wish to request a hearing must submit a written request within 30 days of the publication of this notice in the Federal Register to the Assistant Secretary for Import Administration, U.S. Department of Commerce, Room 1870, 14th Street and Constitution Avenue, NW., Washington, DC 20230. Requests for a public hearing should contain: (1) The party's name, address, and telephone number; (2) the number of participants; and (3) to the extent practicable, an identification of the arguments to be raised at the hearing.

Unless otherwise notified by the Department, interested parties may submit case briefs within 30 days of the date of publication of this notice in accordance with § 351.309(c)(ii) of the Department's regulations. As part of the case brief, parties are encouraged to provide a summary of the arguments not to exceed five pages and a table of statutes, regulations, and cases cited. Rebuttal briefs, which must be limited to issues raised in the case briefs, must be filed within five days after the case brief is filed. If a hearing is held, an interested party may make an affirmative presentation only on arguments included in that party's case brief and may make a rebuttal presentation only on arguments included in that party's rebuttal brief. Parties should confirm by telephone the time, date, and place of the hearing within 48 hours before the scheduled time. The Department will issue the final results of this new shipper review, which will include the results of its analysis of issues raised in the briefs, within 90 days from the date of the preliminary results, unless the time limit is extended.

Notification to Importers

This notice also serves as a preliminary reminder to importers of their responsibility under § 351.402(f) of the Department's regulations to file a certificate regarding the reimbursement of antidumping duties prior to liquidation of the relevant entries during these review periods. Failure to comply with this requirement could result in the Secretary's presumption that reimbursement of antidumping duties occurred and the subsequent assessment of double antidumping duties.

This new shipper review and this notice are published in accordance with sections 751(a)(2)(B) and 777(i)(1) of the Act.

Dated: November 25, 2003.
James J. Jochum,
Assistant Secretary for Import Administration.

[FR Doc. 03-30178 Filed 12-3-03; 8:45 am]

BILLING CODE 3510-DS-P